ENVIRONMENTAL PROTECTION AGENCY

[OPP-2003-0033; FRL-7290-7]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period October 1, 2002 to December 31, 2002 to control unforseen pest outbreaks.

FOR FURTHER INFORMATION CONTACT: See each emergency exemption or denial for the name of a contact person. The following information applies to all contact persons: Team Leader, Emergency Response Team, Registration Division (7505C), Office of Pesticide Programs, Environmental Protection Agency, 1200 Pennsylvania Ave., NW., Washington, DC 20460-0001; telephone number: (703) 308-9366.

SUPPLEMENTARY INFORMATION: EPA has granted or denied emergency exemptions to the following State and Federal agencies. The emergency exemptions may take the following form: Crisis, public health, quarantine, or specific. EPA has also listed denied emergency exemption requests in this notice.

I. General Information

A. Does this Action Apply to Me?

You may be potentially affected by this action if you are a federal or state government agency involved in administration of environmental quality programs (i.e., Departments of Agriculture, Environment, etc). Potentially affected entities may include, but are not limited to:

• Federal or State Government Entity, (NAICS 9241), i.e., Departments of Agriculture, Environment, etc.

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of This Document and Other Related Information?

1. Docket. EPA has established an official public docket for this action under docket identification (ID) number OPP-2003-0033. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Background

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U. S. States and Territories

Arizona

Department of Agriculture

Specific: EPA authorized the use of coumaphos in beehives to control varroa mites and small hive beetles; February 2, 2003 to February 1, 2004. Contact: (Barbara Madden)

California

Environmental Protection Agency, Department of Pesticide Regulation

Crisis: On November 5, 2002, for the use of pyriproxyfen on strawberry to control whiteflies. This program is expected to end on October 2, 2003. Contact: (Andrea Conrath)

Quarantine: EPA authorized the use of spinosad on minor crop host sites to control non-indigenous and quarantined fruit flies; December 5, 2002 to December 5, 2005. Contact: (Dan Rosenblatt)

Specific: EPA authorized the use of avermectin on spinach to control leafminers; November 1, 2002 to October 31, 2003. Contact: (Barbara Madden)

EPA authorized the use of a baited trap containing lambda-cyhalothrin (toxicant), ammonium bicarbonate (food lure), and spiroketalamine (pheromone) on olive trees to control the olive fruit fly; November 14, 2002 to August 31, 2003. Contact: (Dan Rosenblatt)

EPA authorized the use of pyriproxyfen on strawberry to control whiteflies; November 15, 2002 to November 15, 2003. Contact: (Andrea Conrath)

EPA authorized the use of imidacloprid on strawberries to control whiteflies; December 24, 2002 to December 23, 2003. Contact: (Andrew Ertman)

EPA authorized the use of avermectin on avocado to control thrips; February 1, 2003 to December 1, 2003. Contact: (Barbara Madden)

EPA authorized the use of tebufenozide on wine grapes to control grape leaffolder and Omnivorous leafroller; April 1, 2003 to September 1, 2003. Contact: (Barbara Madden)

Delaware

Department of Agriculture

Specific: EPA authorized the use of s-metolachlor on spinach to control weeds; October 25, 2002 to September 1, 2003. Contact: (Andrew Ertman)

EPA authorized the use of thiophanate methyl on mushroom spawn to control green mold; December 5, 2002 to December 5, 2003. Contact: (Andrea Conrath)

Florida

Department of Agriculture and Consumer Services

Quarantine: EPA authorized the use of naled on telephone poles and inanimate objects to control the Oriental fruit fly and related quarantined fruit fly species that respond to methyl eugenol bait; November 13, 2002 to November 13, 2005. Contact: (Dan Rosenblatt)

Specific: EPA authorized the use of coumaphos in beehives to control varroa mites and small hive beetles; January 19, 2003 to January 18, 2004. Contact: (Barbara Madden)

EPA authorized the use of thiophanate methyl on citrus to control post-bloom fruit drop disease; February 22, 2003 to February 22, 2004. Contact: (Andrea Conrath)

Georgia

Department of Agriculture

Specific: EPA authorized the use of flufenacet on wheat to control ryegrass; October 10, 2002 to December 31, 2002. Contact: (Barbara Madden)

EPA authorized the use of coumaphos in beehives to control varroa mites and small hive beetles; January 19, 2003 to January 18, 2004. Contact: (Barbara Madden)

Idaho

Department of Agriculture

Specific: EPA authorized the use of flufenacet on wheat and triticale to control ryegrass; October 10, 2002 to June 30, 2003. Contact: (Barbara Madden)

EPA authorized the use of difenoconazole on sweet corn grown for seed to control fungal pathogens involved in die-back syndrom; November 20, 2002 to November 20, 2003. Contact: (Andrea Conrath)

EPA authorized the use of coumaphos in beehives to control varroa mites and small hive beetles; February 2, 2003 to February 1, 2004. Contact: (Barbara Madden)

Maryland

Department of Agriculture

Specific: EPA authorized the use of thiophanate methyl on mushroom spawn to control green mold; December 5, 2002 to December 5, 2003. Contact: (Andrea Conrath)

EPA authorized the use of coumaphos in beehives to control varroa mites and small hive beetles; February 2, 2003 to February 1, 2004. Contact: (Barbara Madden)

Michigan

Michigan Department of Agriculture

Specific: EPA authorized the use of sulfentrazone on strawberries to control broadleaf weeds; October 21, 2002 to December 15, 2002. Contact: (Andrew Ertman)

Mississippi

Department of Agriculture and Commerce

Specific: EPA authorized the use of niclosamide in commercially operated, man-made levee containment ponds for catfish production to control ram's horn snail, an intermediate host to the yellow grub trematode; December 13, 2003 to December 12, 2004. Contact: (Barbara Madden)

Missouri

Department of Agriculture

Specific: EPA authorized the use of clethodim on tall fescue to suppress stem and seedhead formation in tall fescue pasture or hay to reduce toxin producing endophyte-fungus; November 1, 2002 to April 15, 2003. Contact: (Barbara Madden)

Nebraska

Department of Agriculture

Specific: EPA authorized the use of chlorine dioxide on stored potatoes to control late blight; October 6, 2002 to May 31, 2003. Contact: (Andrew Ertman)

New Mexico

Department of Agriculture

Specific: EPA authorized the use of propiconazole on grain sorghum and sorghum planted for seed production to control sorghum ergot (Claviceps africana); November 7, 2002 to September 30, 2003. Contact: (Libby Pemberton)

New York

Department of Environmental Conservation

Specific: EPA authorized the use of coumaphos in beehives to control varroa mites and small hive beetles; February 2, 2003 to February 1, 2004. Contact: (Barbara Madden)

North Carolina

Department of Agriculture

Specific: EPA authorized the use of flufenacet on wheat to control ryegrass; October 10, 2002 to December 31, 2002. Contact: (Barbara Madden)

North Dakota

Department of Agriculture

Specific: EPA authorized the use of chlorine dioxide on stored potatoes to control late blight; October 21, 2002 to August 31, 2003. Contact: (Andrew Ertman)

Oregon

Department of Agriculture

Specific: EPA authorized the use of flufenacet on wheat and triticale to control ryegrass; October 10, 2002 to June 30, 2003. Contact: (Barbara Madden)

Pennsylvania

Department of Agriculture

Specific: EPA authorized the use of thiophanate methyl on mushroom spawn to control green mold; December 5, 2002 to December 5, 2003. Contact: (Andrea Conrath)

South Carolina

Clemson University

Specific: EPA authorized the use of flufenacet on wheat to control annual ryegrass; November 20, 2002 to December 31, 2002. Contact: (Barbara Madden)

Texas

Department of Agriculture

Crisis: On October 10, 2002, for the use of azoxystrobin on broccoli, cabbage, cauliflower, and kohlrabi to control Alternaria Leafspot and Cercospera Leafspot. This program is expected to end on October 10, 2003. Contact: (Libby Pemberton)

Specific: EPA authorized the use of bifenthrin on citrus to control weevils; November 22, 2002 to November 22, 2003. Contact: (Andrea Conrath)

EPA authorized the use of azoxystrobin on broccoli, cabbage, cauliflower, and kohlrabi to control Alternaria Leafspot and Cercospera Leafspot; December 12, 2002 to October 10, 2003. Contact: (Libby Pemberton)

EPA authorized the use of propiconazole on grain sorghum to control sorghum ergot (Claviceps africana); December 14, 2002 to December 14, 2003. Contact: (Libby Pemberton)

Virginia

Department of Agriculture and Consumer Services

Specific: EPA authorized the use of bifenazate on greenhouse grown tomatoes to control spider mites; October 4, 2002 to October 3, 2003. Contact: (Barbara Madden)

EPA authorized the use of flufenacet on wheat to control ryegrass; October 10, 2002 to December 31, 2002. Contact: (Barbara Madden)

Washington

Department of Agriculture

Specific: EPA authorized the use of flufenacet on wheat and triticale to control ryegrass; October 10, 2002 to June 30, 2003. Contact: (Barbara Madden)

EPA authorized the use of coumaphos in beehives to control varroa mites and small hive beetles; February 2, 2003 to February 1, 2004. Contact: (Barbara Madden)

B. Federal Departments and Agencies

Agriculture Department

Animal and Plant Health Inspector Service

Quarantine: EPA authorized the use of diazinon around the drip line of infested trees in Florida to control quarantined fruit fly species, such as the Mediterranean fruit fly; October 21, 2002 to October 21, 2005. Contact: (Dan Rosenblatt)

Environmental Protection Agency

Crisis: On October 3, 2002, for the use of ethylene oxide to decontaminate interior spaces and personal and office items from the National Broadcasting Company on which Bacillus anthracis may be present at low bioburden levels. This program ended on/is expected to end on October 18, 2002. Contact: (Barbara Madden)

On October 3, 2002, for the use of hydrogen peroxide to decontaminate interior spaces and personal and office items from the National Broadcasting Company on which Bacillus anthracis may be present at low bioburden levels. This program ended on/is expected to end on October 18, 2002. Contact: (Barbara Madden)

On October 3, 2002, for the use of hydrogen peroxide and peroxyacetic acid to decontaminate interior spaces and personal and office items from the National Broadcasting Company on which Bacillus anthracis may be present at low bioburden levels. This program ended on/is expected to end on October 18, 2002. Contact: (Barbara Madden)

On October 3, 2002, for the use of sodium hypochlorite to decontaminate interior spaces and personal and office items from the National Broadcasting Company on which Bacillus anthracis may be present at low bioburden levels. This program ended on/is expected to end on October 18, 2002. Contact: (Barbara Madden)

On October 16, 2002, for the use of ethylene oxide to fumigate items retrieved from the U.S. Department of Justice that were contaminated or potentially contaminated by Bacillus anthracis. This program ended on/is expected to end on November 1, 2002. Contact: (Barbara Madden)

On December 9, 2002, for the use of sodium chlorite to fumigate the Joseph Curseen, Jr. and Thomas Morris, Jr. Processing and Distribution Center in Washington, D.C. that was contaminated by Bacillus anthracis. This program ended on/is expected to end on December 24, 2002. Contact: (Barbara Madden)

List of Subjects

Environmental protection, Pesticides and pest.

Dated: February 10, 2003.
Debra Edwards,
Acting Director, Registration Division, Office of Pesticide Programs.

[FR Doc. 03-4252 Filed 2-21-03; 8:45 am]

BILLING CODE 6560-50-S